Proclamation 10871 of December 9, 2024

Human Rights Day and Human Rights Week, 2024

By the President of the United States of America

A Proclamation

On Human Rights Day and during Human Rights Week, we recommit to upholding the equal and inalienable rights of all people.

America was founded on an idea—that every person is created equal and deserves to be treated equally throughout their lives. And 76 years ago today, after the wreckage of 2 world wars and the Holocaust, the United States joined countries around the globe to enshrine this idea into a Universal Declaration of Human Rights. We also helped establish the United Nations, upholding the inherent dignity of every person on the world stage and establishing a rules-based international order. Today, our country continues to stand with our partners and allies to defend human rights and fundamental freedoms around the world—from combatting threats to silence and intimidate human rights defenders like journalists to championing democracy, fair elections, and the universal human rights to freedoms of association, peaceful assembly, religion, and expression. When crises erupt, we protect civilians from mass atrocities, promote accountability for those responsible for human rights violations and abuses, seek to free political prisoners, and create space for civilian dialogue. This year, we also recognize another landmark achievement in the global fight for human rights with the 40th anniversary of the adoption of the Convention Against Torture and Other Cruel, Inhuman or Degrading Treatment or Punishment. And we continue to stand with free people everywhere who are bravely fighting for justice and defending life and liberty at home and around the world.

My Administration has been committed to protecting the dignity and rights of people here at home and around the globe. We established the White House Gender Policy Council to advance the rights and opportunities of women and girls across domestic and foreign policy—from preventing and responding to gender-based violence to promoting participation in peace and security efforts. We rejoined the United Nations Human Rights Council to highlight and address pressing human rights concerns. From the beginning of my Administration, we have worked to protect the rights of LGBTQI+ people, working toward a future where no one is targeted or persecuted because of who they are. We are working to ensure all people are treated equally and have equal access to opportunities, no matter who they are or where they come from. We have made progress in bringing new investments to communities that have too often been left behind and in expanding accessibility for people with disabilities. And we have worked to advance technology in support of democracy and internet freedom, while leading important efforts to stop the expansion and misuse of commercial spyware, which has enabled human rights abuses around the world.

I have made the preservation of democracy—the best tool for protecting human rights—the central cause of my Presidency. That is why we convened the Summit for Democracy to strengthen democratic institutions, root out corruption, promote gender equality and human rights, and reject political violence. There will always be forces that pull the world apart: aggression, extremism, chaos, cynicism, and a desire to retreat from the world and go it alone. The task of our time is to ensure that the forces holding us together are stronger than those that are pulling us apart. Together, we can make sure our shared values and determination withstand any challenge.

Today and this week, may we reaffirm our commitment to standing up for human rights at home and around the world. The future will be won by those who unleash the full potential of their people to live with dignity, prosper, think freely, innovate, and exist and love openly without fear. Together, nothing is beyond our capacity.

NOW, THEREFORE, I, JOSEPH R. BIDEN JR., President of the United States of America, by virtue of the authority vested in me by the Constitution and the laws of the United States, do hereby proclaim December 10, 2024, as Human Rights Day and the week beginning December 10, 2024, as Human Rights Week. I call upon the people of the United States to mark these observances with appropriate ceremonies and activities.

IN WITNESS WHEREOF, I have hereunto set my hand this ninth day of December, in the year of our Lord two thousand twenty-four, and of the Independence of the United States of America the two hundred and forty-ninth.

[FR Doc. 2024-29460

Filed 12-11-24; 8:45 am]

Billing code 3395-F4-P